ENVIRONMENTAL PROTECTION AGENCY

40 CFR Part 80

[EPA-HQ-OAR-2010-0133; FRL-9425-6]

RIN 2060-AQ76

Regulation of Fuels and Fuel Additives: 2012 Renewable Fuel Standards; Public Hearing

AGENCY: Environmental Protection Agency (EPA).

ACTION: Announcement of public hearing.

SUMMARY: The EPA is announcing a public hearing to be held for the proposed rule “Regulation of Fuels and Fuel Additives: 2012 Renewable Fuel Standards,” which EPA intends to publish separately in the Federal Register at a future date. The hearing will be held in Washington, DC on July 12, 2011.

In a separate notice of proposed rulemaking EPA will be proposing amendments to the renewable fuel standard program regulations to establish annual standards for cellulosic biofuel, biomass-based diesel, advanced biofuel, and renewable fuels that would apply to all gasoline and diesel produced in the U.S. or imported in the ear 2012. In addition, the separate proposal includes a proposed cellulosic biofuel applicable volume for 2012 and an applicable volume of biomass-based diesel that would apply in 2013.

DATES: The public hearing will be held on July 12, 2011 at the location noted below under ADDRESSES. The hearing will begin at 9 a.m. and end when all parties present who wish to speak have had an opportunity to do so. Parties wishing to testify at the hearing should notify the contact person listed under FOR FURTHER INFORMATION CONTACT by July 1, 2011. Additional information regarding the hearing appears below under SUPPLEMENTARY INFORMATION.

ADDRESSES: The hearing will be held at the following location: Washington Marriott at Metro Center, 775 12th Street NW., Washington, DC 20005-3901.

When the proposed rule is published in the Federal Register, a complete set of documents related to the proposal will be available for public inspection at the EPA Docket Center, located at 1301 Constitution Avenue, NW., Room 3334, Washington, DC between 8:30 a.m. and 4:30 p.m., Monday through Friday, excluding legal holidays. A reasonable fee may be charged for copying. Documents will also be available through the electronic docket system at http://www.regulations.gov.

FOR FURTHER INFORMATION CONTACT: Julia MacAllister, Office of Transportation and Air Quality, Assessment and Standards Division, Environmental Protection Agency, 2000 Traverwood Drive, Ann Arbor, MI 48105; telephone number: (734) 214-4131; Fax number: (734) 214-4816; E-mail address: macallister.julia@epa.gov.

SUPPLEMENTARY INFORMATION: The proposal for which EPA is holding the public hearing will be published separately in the Federal Register.

Public Hearing: The public hearing will provide interested parties the opportunity to present data, views, or arguments concerning the proposal (which can be found at http://www.epa.gov/otaq/fuels/renewablefuels/index.htm). The EPA may ask clarifying questions during the oral presentations but will not respond to the presentations at that time. Written statements and supporting information submitted during the comment period will be considered with the same weight as any oral comments and supporting information presented at the public hearing. Written comments must be received by the last day of the comment period, as specified in the proposal.

The public hearing will be held on July 12, 2011 at the location noted under ADDRESSES, and will begin at 9 a.m. and end when all parties present who wish to speak have had an opportunity to do so. Those wishing to testify at the public hearing should register in advance by notifying the contact person listed under FOR FURTHER INFORMATION CONTACT by July 1, 2011.

A verbatim transcript of the hearing and copies of written statements will be included in the rulemaking docket.

How can I get copies of this document, the proposed rule, and other related information?

The EPA has established a docket for this action under Docket ID No. EPA-HQ-OAR-2010-0133. The EPA has also developed a Web site for the RFS program, including the notice of proposed rulemaking, at the address given above. Please refer to the notice of proposed rulemaking for detailed information on accessing information related to the proposal.

Dated: June 16, 2011.
Margo Tsirigotis Oge,
Director, Office of Transportation and Air Quality, Office of Air and Radiation.

[FR Doc. 2011-16144 Filed 6-27-11; 8:45 am]

BILLING CODE 6560-50-P